DEPARTMENT OF COMMERCE

International Trade Administration

Establishment of a Ready Applicant Pool for Department of Commerce Trade Missions

AGENCY: International Trade Administration, Department of Commerce.

ACTION: Notice.

SUMMARY: The United States Department of Commerce (Department), International Trade Administration (ITA), is establishing a Ready Applicant Pool initiative, the Ready Applicant Pool (RAP), for organizations and companies that would like to receive information directly from the Department, when it organizes a trade mission aligned with the products, services, technologies, sectors, target markets or goals of the applicant. Applicants willing and interested to send a high-level representative to participate on an expedited trade mission to any location, at any time, on very short notice are especially encouraged to apply for the RAP. Applications to join the RAP can be found at http://www.export.gov/trademissions/eg_main_023185.asp and will be accepted at any time.

DATES: The RAP is established as of April 28, 2015. Applications may be submitted at any time at http://www.export.gov/trademissions/eg_main_023185.asp. Applications will be evaluated quarterly and those accepted will be notified as soon as possible. Applicants will be selected for the current RAP term and will need to reapply when the term ends on December 31, 2016. Each term will last two years.

SUPPLEMENTARY INFORMATION:

The United States Department of Commerce (the Department), International Trade Administration (ITA), is establishing a Ready Applicant Pool (RAP) initiative for companies and organizations that would like to receive information directly from the Department when it organizes a trade mission aligned with the products, services, technology, sectors, target markets or goals of the applicant. The program is entitled the Ready Applicant Pool (RAP).

One of the primary goals of the RAP is to provide a fast and efficient method for the Department to recruit for expedited trade missions. Expedited trade missions will utilize expedited procedures, web-based notification, and will have short application deadlines. Because of their expedited nature, the Department will rely heavily on the members of the RAP for recruitment, especially those RAP members that are willing to send a high-level representative to participate on a mission to any location, at any time, on very short notice. The Department may also rely on appropriate RAP members in its recruitment for other trade missions. Specifically, the Department intends to directly contact those RAP members with products, services, technologies, target sectors, target markets or goals that align with a particular trade mission.

The benefits of joining the RAP are: (1) To ensure the Department will contact the current point-of-contact when it organizes a trade mission that it determines is aligned with the RAP member's products, services, technologies, target sectors, target markets or goals; (2) to speed up the trade mission selection process by providing the Department with the information necessary for pre-screening with respect to participation generally in its trade missions and (3) to indicate in advance a willingness to apply for and potentially participate in expedited trade missions to any location at any time, possibly on very short notice.

Any member of the U.S. business community may apply to become a member of the RAP. The U.S. business community consists of corporations, partnerships, and other business associations created under the laws of the United States or of any state; U.S. citizens; state or local economic development or international trade office or agency; trade association and other non-profit organizations that represent a sector or sectors of the U.S. economy; university competitiveness programs; and any other U.S. entity seeking to promote United States business interests abroad.

The criteria for evaluating applicants for selection for the RAP are:

• Whether the applicant will be a suitable representative of the U.S. industry sector in which it operates;

• The applicant's potential for helping to advance Department of Commerce strategic priorities;

• The applicant's past, present, and prospective business activities abroad;

• The applicant's conduct on past trade missions; and

• Whether the applicant is willing to send a high-level representative to participate on an expedited trade mission to any location, at any time, on very short notice.

The last criterion will not be dispositive for RAP selection but it will be weighted significantly in selection for the RAP. Applicants that cannot fulfill this criterion will not be excluded from the RAP.

Applicants selected for the RAP will be contacted directly by the Department when it organizes a trade mission aligned with the products, services, technologies, target sectors, target markets or goals of the applicant. The Department will have up-to-date contact information for RAP members, ensuring that trade mission information reaches the correct company contact. When contacted, RAP members will be given step-by-step instructions on how to apply for the mission. Selection for the RAP does not guarantee or assure selection for a particular trade mission. But, RAP members are pre-screened with respect to participation generally in Department trade missions.

Applications for the RAP may be submitted at any time at http://www.export.gov/trademissions/eg_main_023185.asp. They will be evaluated on a quarterly basis and those accepted will be notified as soon as possible. Once selected, the Department will reach out to the RAP member for updated contact information every six months. This ensures that the Department has current information about the applicant's products, services, technologies, target sectors, target markets and goals. The RAP term will end every two years. The first RAP term will begin immediately and conclude on December 31, 2016. At that time, all members will be required to reapply in order to gain membership for the following term (January 1, 2017—December 31, 2018). Applications received after July 1, 2016 will be reviewed for both the first and second cohorts of the RAP.

FOR FURTHER INFORMATION CONTACT: Frank Spector, Acting Director, Trade Missions Program, Phone: (202) 482-2054, Email: Frank.Spector@trade.gov.

Frank Spector,
Acting Director, Trade Missions Program.

[FR Doc. 2015-09800 Filed 4-27-15; 8:45 am]

BILLING CODE 3510-DR-P